DEPARTMENT OF EDUCATION

Fund for the Improvement of Education (FIE) Program

AGENCY: Office of Educational Research and Improvement, Department of Education.

ACTION: Notice of proposed priority.

SUMMARY: The Assistant Secretary for Educational Research and Improvement proposes a priority under the Fund for the Improvement of Education (FIE) for a grant competition for Community Coaches. The Assistant Secretary may use this priority for competitions in fiscal year (FY) 2001 and later years.

DATES: We must receive your comments on or before February 21, 2001.

ADDRESSES: Address all comments about this proposed priority to Pat O'Connell Ross, U.S. Department of Education, 555 New Jersey Avenue, NW., room 602D, Washington, DC 20202-5530. If you prefer to send your comments through the Internet, use the following address: comments@ed.gov.

You must include the term Community Coaches in the subject line of your electronic message.

FOR FURTHER INFORMATION CONTACT: Pat O'Connell Ross. Telephone: (202) 219-2169 or via Internet: patricia_ross@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Invitation to Comment

We invite you to submit comments regarding this proposed priority.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this proposed priority in room 600, 555 New Jersey Avenue, NW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, you may call (202) 205-8113 or (202) 260-9895. If you use a TDD, you may call the Federal Information Relay Service (FIRS) at 1-800-877-8339.

General Information

OERI administers the Fund for the Improvement of Education under section 10101, Part A of Title X of the Elementary and Secondary Education Act of 1965, as amended. The purpose of the Fund for the Improvement of Education (FIE) is to support nationally significant programs to improve the quality of education, assist all students to meet challenging State content standards, and contribute to the achievement of the National Education Goals.

The Assistant Secretary is authorized, under section 10101, to support nationally significant programs and projects to improve the quality of education, and may carry out programs and projects through grants to State and local educational agencies, institutions of higher education, and other public and private agencies, organizations, and institutions. These activities may include activities to promote and evaluate counseling and mentoring for students, including intergenerational mentoring.

The Assistant Secretary believes that community coaches, who can help young people in learning through community service and who can serve to link the school with the business sector and the community, have the potential for providing high-quality, cost-effective mentoring for elementary and secondary students that can lead to improved personal, civic, and academic skills. The Assistant Secretary is interested in funding pilot projects that can serve as models for schools across the nation. These projects should support and evaluate the effectiveness of strategies that—

• Help young people gain concrete leadership skills by designing and implementing their own community-building projects;

• Help teachers and other school personnel identify and use the resources of their surrounding community to engage children in community service connected to their academic learning; and

• Engage students in hands-on learning and help them develop personal, civic, and academic skills through structured service projects that meet community needs.

Projects could include partnerships between schools and hospitals, nursing homes, community recreation centers, and human service agencies of all types. The community coaches could be AmeriCorp members, teachers, guidance counselors, or other members of the community.

Discussion of Priority

We will announce the final priority in a notice in the Federal Register. We will determine the final priority after considering responses to this notice and other information available to the Department. This notice does not preclude us from proposing or funding additional priorities, subject to meeting applicable rulemaking requirements.

Note: This notice does not solicit applications. In any year in which we choose to use this proposed priority, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the priority (34 CFR 75.105(c)(2)(i)); or (2) selecting an application that meets the priority over an application of comparable merit that does not meet the priority (34 CFR 75.105(c)(2)(ii)).

Invitational priority: Under an invitational priority we are particularly interested in applications that meet the invitational priority. However, we do not give an application that meets the priority a competitive or absolute preference over other applications (34 CFR 75.105(c)(1)).

Priority

Pilot Projects—Community Coaches for Elementary and Secondary Students

Projects that propose to develop and evaluate pilot programs that use community coaches in schools to help elementary or secondary or both students engage in structured service-learning projects that meet community needs. A “community coach” is a caring adult who offers guidance and support to young people and is committed to strengthening student community service. “Service learning” engages students in hands-on learning and helps them develop personal, civic, and academic skills through structured service projects that meet community needs.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at either of the following sites:

http://ocfo.ed.gov/fedreg.htm

http://www.ed.gov/news.html

To use PDF, you must have Adobe Acrobat Reader, which is available free at either of the previous sites. If you have questions about using PDF, call the U.S. Government Printing Office (GPO), toll free, at (888) 293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C.8001.

(Catalog of Federal Domestic Assistance Number 84.215 Fund for the Improvement of Education Program)
Dated: January 16, 2001.
C. Kent McGuire,
Assistant Secretary for Educational Research and Improvement.

[FR Doc. 01-1761 Filed 1-17-01; 11:06 am]

BILLING CODE 4000-01-P